DEPARTMENT OF ENERGY

Federal Energy Regulatory Commission

Combined Notice of Filings #1

Take notice that the Commission received the following electric rate filings:

Docket Numbers: ER10-2289-012; ER10-2564-012; ER10-2600-012.

Applicants: UNS Electric, Inc., Tucson Electric Power Company, UniSource Energy Develop.m.ent Company.

Description: Notice of Change in Status to Reflect Participation in Energy Imbalance Market of Tucson Electric Power Company, et al.

Filed Date: 11/10/21.

Accession Number: 20211110-5199.

Comment Date: 5 p.m. ET 12/1/21.

Docket Numbers: ER21-2217-002.

Applicants: Lincoln Land Wind, LLC.

Description: Notice of Non-Material Change in Status of Lincoln Land Wind, LLC.

Filed Date: 11/10/21.

Accession Number: 20211110-5162.

Comment Date: 5 p.m. ET 12/1/21.

Docket Numbers: ER21-2348-001.

Applicants: Midcontinent Independent System Operator, Inc., Michigan Public Power Agency.

Description: ALJ Settlement: Midcontinent Independent System Operator, Inc. submits tariff filing per 385.602: 2021-10-25_MPPA Revenue Requirement Compliance Filing to be effective N/A.

Filed Date: 10/25/21.

Accession Number: 20211025-5062.

Comment Date: 5 p.m. ET 12/1/21.

Docket Numbers: ER22-377-000.

Applicants: Florida Power & Light Company.

Description: § 205(d) Rate Filing: FPL & Alabama Power Facility Construction Agreement for Affected System Project to be effective 11/11/2021.

Filed Date: 11/10/21.

Accession Number: 20211110-5001.

Comment Date: 5 p.m. ET 12/1/21.

Docket Numbers: ER22-378-000.

Applicants: ISO New England Inc., New England Power Pool Participants Committee.

Description: ISO New England Inc. submits Installed Capacity Requirement, Hydro Quebec Interconnection Capability Credits and Related Values for the 2025/2026 Capacity Commitment Period.

Filed Date: 11/9/21.

Accession Number: 20211109-5227.

Comment Date: 5 p.m. ET 11/30/21.

Docket Numbers: ER22-379-000.

Applicants: Southwest Power Pool, Inc.

Description: § 205(d) Rate Filing: Revisions to Implement Effective Load Carrying Capability Methodology to be effective 2/15/2022.

Filed Date: 11/10/21.

Accession Number: 20211110-5076.

Comment Date: 5 p.m. ET 12/1/21.

Docket Numbers: ER22-380-000.

Applicants: Avista Corporation.

Description: Tariff Amendment: Avista Corp Cancellation of RS T1158 NorthernGrid Funding Agmt to be effective 12/31/2021.

Filed Date: 11/10/21.

Accession Number: 20211110-5079.

Comment Date: 5 p.m. ET 12/1/21.

Docket Numbers: ER22-381-000.

Applicants: Dunns Bridge Solar Center, LLC.

Description: Baseline eTariff Filing: Dunns Bridge Solar Center, LLC Application for MBR Authority to be effective 1/10/2022.

Filed Date: 11/10/21.

Accession Number: 20211110-5090.

Comment Date: 5 p.m. ET 12/1/21.

Docket Numbers: ER22-382-000.

Applicants: American Electric Power Service Corporation, Indiana Michigan Power Company, PJM Interconnection, L.L.C.

Description: § 205(d) Rate Filing: American Electric Power Service Corporation submits tariff filing per 35.13(a)(2)(iii: AEP submits one FA with IMPA re: SA No. 1436 to be effective 1/10/2022.

Filed Date: 11/10/21.

Accession Number: 20211110-5099.

Comment Date: 5 p.m. ET 12/1/21.

Docket Numbers: ER22-383-000.

Applicants: Northern States Power Company, a Minnesota corporation.

Description: § 205(d) Rate Filing: 2021-11-10 Huntley-Wilmarth-CMA-657-0.1.0 to be effective 11/10/2021.

Filed Date: 11/10/21.

Accession Number: 20211110-5113.

Comment Date: 5 p.m. ET 12/1/21.

Take notice that the Commission received the following electric securities filings:

Docket Numbers: ES21-69-000.

Applicants: Allegheny Generating Company.

Description: Supplement to Application Under Section 204 of the Federal Power Act for Authorization to Issue Securities of Allegheny Generating Company.

Filed Date: 11/9/21.

Accession Number: 20211109-5128.

Comment Date: 5 p.m. ET 11/30/21.

Docket Numbers: ES21-70-000.

Applicants: Jersey Central Power & Light Company.

Description: Supplement to Application Under Section 204 of the Federal Power Act for Authorization to Issue Securities of Jersey Central Power & Light Company.

Filed Date: 11/9/21.

Accession Number: 20211109-5132.

Comment Date: 5 p.m. ET 11/30/21.

Docket Numbers: ES21-71-000.

Applicants: Mid-Atlantic Interstate Transmission, LLC.

Description: Supplement to Application Under Section 204 of the Federal Power Act for Authorization to Issue Securities of Mid-Atlantic Interstate Transmission, LLC.

Filed Date: 11/9/21.

Accession Number: 20211109-5129.

Comment Date: 5 p.m. ET 11/30/21.

Docket Numbers: ES21-72-000.

Applicants: Metropolitan Edison Company.

Description: Supplement to Application Under Section 204 of the Federal Power Act for Authorization to Issue Securities of Metropolitan Edison Company.

Filed Date: 11/9/21.

Accession Number: 20211109-5133.

Comment Date: 5 p.m. ET 11/30/21.

Docket Numbers: ES21-73-000.

Applicants: Monongahela Power Company.

Description: Supplement to Application Under Section 204 of the Federal Power Act for Authorization to Issue Securities of Monongahela Power Company.

Filed Date: 11/9/21.

Accession Number: 20211109-5134.

Comment Date: 5 p.m. ET 11/30/21.

Docket Numbers: ES21-74-000.

Applicants: Pennsylvania Power Company.

Description: Supplement to Application Under Section 204 of the Federal Power Act for Authorization to Issue Securities of Pennsylvania Power Company.

Filed Date: 11/9/21.

Accession Number: 20211109-5141.

Comment Date: 5 p.m. ET 11/30/21.

Docket Numbers: ES21-75-000.

Applicants: Potomac Edison Company.

Description: Supplement to Application Under Section 204 of the Federal Power Act for Authorization to Issue Securities of Potomac Edison Company.

Filed Date: 11/9/21.

Accession Number: 20211109-5144.

Comment Date: 5 p.m. ET 11/30/21.

Docket Numbers: ES21-76-000.

Applicants: West Penn Power Company.

Description: Supplement to Application Under Section 204 of the Federal Power Act for Authorization to Issue Securities of West Penn Power Company.

Filed Date: 11/9/21.

Accession Number: 20211109-5147.

Comment Date: 5 p.m. ET 11/30/21.

Docket Numbers: ES21-77-000.

Applicants: Trans-Allegheny Interstate Line Company.

Description: Supplement to Application Under Section 204 of the Federal Power Act for Authorization to Issue Securities of Trans-Allegheny Interstate Line Company.

Filed Date: 11/9/21.

Accession Number: 20211109-5162.

Comment Date: 5 p.m. ET 11/30/21.

Docket Numbers: ES21-78-000.

Applicants: Pennsylvania Electric Company.

Description: Supplement to Application Under Section 204 of the Federal Power Act for Authorization to Issue Securities of Pennsylvania Electric Company.

Filed Date: 11/9/21.

Accession Number: 20211109-5161.

Comment Date: 5 p.m. ET 11/30/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 10, 2021.
Debbie-Anne A. Reese,
Deputy Secretary.

[FR Doc. 2021-25056 Filed 11-16-21; 8:45 am]

BILLING CODE 6717-01-P